FEDERAL ELECTION COMMISSION

[Notice 2009-6]

Filing Dates for the New York Special Election in the 20th Congressional District

AGENCY: Federal Election Commission.

ACTION: Notice of filing dates for special election.

SUMMARY: New York has scheduled a Special General Election on March 31, 2009 to fill the U.S. House of Representatives seat in the Twentieth Congressional District vacated by Senator Kirsten Gillibrand.

Political committees participating in the New York Special General Election on March 31, 2009 shall file a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the New York Special General Election shall file a 12-day Pre-General Report on March 19, 2009; and a 30-day Post-General Report on April 30, 2009. (See chart below for the closing date for each report.)

Note that these reports are in addition to the campaign committee's quarterly filings in April and July.

Unauthorized Committees (PACs and Party Committees)

Political committees filing on a semiannual basis in 2009 are subject to special election reporting if they make previously undisclosed contributions or expenditures in connection with the New York Special General Election by the close of books for the applicable report(s). (See chart below for the closing date for each report.)

Political committees filing monthly that support candidates in the New York Special General Election should continue to file according to the monthly reporting schedule.

Additional disclosure information in connection with the New York Special Election may be found on the FEC Web site at http://www.fec.gov/info/report_dates.shtml.

Calendar of Reporting Dates for New York Special Election

Quarterly Filing Political Committees Involved in the Special General (03/31/09) Must File:

Report | Close of books ¹ | Reg./cert. & overnight mailing deadline | Filing deadline
Pre-General | 03/11/09 | 03/16/09 | 03/19/09
April Quarterly | 03/31/09 | 04/15/09 | 04/15/09
Post-General | 04/20/09 | 04/30/09 | 04/30/09
July Quarterly | 06/30/09 | 07/15/09 | 07/15/09

Semiannual Filing Political Committees Involved in the Special General (03/31/09) Must File:

Report | Close of books ¹ | Reg./cert. & overnight mailing deadline | Filing deadline
Pre-General | 03/11/09 | 03/16/09 | 03/19/09
Post-General | 04/20/09 | 04/30/09 | 04/30/09
Mid-Year | 06/30/09 | 07/31/09 | 07/31/09
¹ The reporting period always begins the day after the closing date of the last report filed. If the committee is new and has not previously filed a report, the first report must cover all activity that occurred before the committee registered up through the close of books for the first report due.

Dated: February 27, 2009.
On behalf of the Commission,
Steven T. Walther,
Chairman, Federal Election Commission.

[FR Doc. E9-4651 Filed 3-4-09; 8:45 am]

BILLING CODE 6715-01-P